DEPARTMENT OF COMMERCE

National Oceanic and Atmospheric Administration

[I.D. 021406A]

Endangered and Threatened Species; Take of Anadromous Fish

AGENCY: National Marine Fisheries Service (NMFS), National Oceanic and Atmospheric Administration (NOAA), Commerce.

ACTION: Applications for two scientific research permits and one permit modification.

SUMMARY: Notice is hereby given that NMFS has received three scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on March 23, 2006.

ADDRESSES: Written comments on the applications should be sent to Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): endangered upper Columbia River (UCR); threatened lower Columbia River (LCR); threatened upper Willamette River (UWR).

Chum salmon (O. keta): threatened Columbia River (CR).

Steelhead (O. mykiss): threatened middle Columbia River (MCR); threatened UCR; threatened UWR; threatened LCR.

Coho salmon (O. kisutch): threatened LCR.

Authority

Scientific research permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1559

The Oregon State University (OSU) is asking for a 3-year research permit to take adult and juvenile UCR Chinook salmon, UCR steelhead, MCR steelhead, UWR Chinook salmon, and UWR steelhead in randomly-selected river systems in Oregon and Washington. The research was previously approved under Permit 1156; it is designed to help managers assess the condition of rivers and streams in the 12 conterminous western states and evaluate and develop scientifically and statistically rigorous field protocols for assessing large (unwadeable) rivers. The study would benefit listed salmonids by providing baseline information about water quality in the study areas and helping managers enforce the Clean Water Act in those river systems where listed fish are present. The OSU proposes to capture fish (using raft-mounted electrofishing equipment), sample them for biological information, and release them. The researchers will seek to avoid adult salmonids, but some may be handled as an unintentional result of the sampling. Moreover, OSU does not intend to kill any fish being captured but some juvenile fish may die as an unintentional result of the research activities.

Permit 1560

The U.S. Geological Survey (USGS) is asking for a 3-year research permit to take adult and juvenile MCR steelhead, LCR Chinook salmon, LCR coho salmon, and CR chum salmon in the White Salmon River, Washington a tributary to the lower Columbia River. The objectives of the research are to: (1) Determine fish assemblage composition and fish use in the lower White Salmon River; (2) assess salmonid growth and survival as indices of productivity; (3) contribute to U.S. Fish and Wildlife Service efforts to characterize life history, genetics, and health of Chinook stocks that currently use the lower White Salmon River; and (4) coordinate with ongoing sampling efforts associated with dam removal projects in the Elwha River system (Olympic Peninsula, Washington). The study would benefit listed salmonids by providing information on the effects dam removal may have on important fish species such as Chinook, coho, steelhead, Pacific lamprey, bull trout, and sea-run cutthroat trout. The U.S. Geodetic Survey (USGS) proposes to conduct snorkel surveys instead of capturing fish whenever possible, but they will also capture fish using backpack electrofishing equipment and traps and anesthetize, measure, weigh and inspect them for external diseases. Researchers would clip the fins of some captured fish in order to collect genetic tissues and gauge trapping efficiency. The researchers will seek to avoid adult salmonids, but some may be handled as an unintentional result of the sampling. Moreover, the USGS does not intend to kill any fish being captured but some juvenile fish may die as an unintentional result of the research activities.

Permit 1336 - Modification 1

Permit 1336 currently authorizes the Port Blakely Farms (PBF) to take juvenile UWR Chinook salmon, LCR Chinook salmon, UWR steelhead and LCR steelhead in headwater streams in western Oregon and Washington. They are asking to modify their permit so they may be allowed to take LCR coho salmon; they also wish to extend the permit's expiration date to December 31, 2010. The purpose of the research is to evaluate factors limiting fish distribution and water quality in streams owned by PBF. The research would benefit listed salmonids by producing data to be used in conserving and restoring critical habitat. The PBF proposes to capture (using backpack electrofishing and dipnetting), handle, and release juvenile fish. The PBF does not intend to kill any fish being captured but some may die as an unintentional result of the research activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: February 14, 2006.
Angela Somma,
Chief, Endangered Species Division, Office of Protected Resources, National Marine Fisheries Service.

[FR Doc. E6-2404 Filed 2-17-06; 8:45 am]

BILLING CODE 3510-22-S